DEPARTMENT OF COMMERCE

National Oceanic and Atmospheric Administration

[I.D. 032602B]

Receipt of an Application for an Incidental Take Permit (1357)

AGENCY: National Marine Fisheries Service (NMFS), National Oceanic and Atmospheric Administration (NOAA), Commerce.

ACTION: Notice of availability.

SUMMARY: NMFS has received an application for an incidental take permit from the State of Hawaii’s Department of Land and Natural Resources (DLNR), Division of Aquatic Resources (DAR) pursuant to the Endangered Species Act of 1973, as amended (ESA). As required by the ESA, the DAR’s application includes a conservation plan designed to minimize and mitigate any such take of endangered or threatened species. The permit application is for the incidental take of ESA-listed sea turtles associated with otherwise lawful fisheries occurring in state waters (shoreline to the extent of state jurisdiction), which are under the State’s management authority (except for federal pelagic and bottomfish fisheries managed by the Western Pacific Regional Fishery Management Council). The duration of the proposed permit is July 1, 2002 to June 30, 2005. NMFS is furnishing this notice in order to allow other agencies and the public an opportunity to review and comment on this document. All comments received will become part of the public record and will be available for review pursuant to the ESA.

DATES: Written comments from interested parties on the permit application and conservation plan must be received (see ADDRESSES) no later than 5 p.m. Eastern daylight time on May 6, 2002.

ADDRESSES: Written comments on this action should be addressed to the Chief, Endangered Species Division, Office of Protected Resources, NMFS, 1315 East-West Highway, Silver Spring, MD 20910. Comments may also be sent via fax to 301-713-0376. The application is available for download and review at http://www.nmfs.noaa.gov/prot_res/PR3/Permits/ESAPermit.html. Comments will not be accepted if submitted via e-mail or the Internet.

FOR FURTHER INFORMATION CONTACT: Margaret Akamine Dupree (ph.808-973-2935, fax 808-973-2941, e-mail Margaret.Dupree@noaa.gov) or Therese Conant (ph. 301-713-1401, fax 301-713-0376, e-mail Therese.Conant@noaa.gov). Comments received will also be available for public inspection, by appointment, during normal business hours by calling 301-713-1401.

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under certain conditions, to take listed species incidental to, and not the purpose of, otherwise lawful activities. NMFS regulations governing permits for threatened and endangered species are promulgated at 50 CFR 222.307.

Species Covered in this Notice

The following species are included in the plan and permit application: Loggerhead (Caretta caretta), green (Chelonia mydas), leatherback (Dermochelys coriacea), hawksbill (Eretmochelys imbricata), and olive ridley (Lepidochelys olivacea) sea turtles.

Background

On March 21, 2002, the DAR submitted an application to NMFS for an ESA section 10(a)(1)(B) permit for an incidental take of ESA-listed sea turtles associated with state-managed fisheries. The application request is for the three year period from July 1, 2002 to June 30, 2005. This permit would allow for the continued take of sea turtles incidental to the recreational and commercial harvest of fish in state waters of Hawaii and provide conservation for sea turtles.

Conservation Plan

The conservation plan prepared by the DAR and included in the application describes measures designed to monitor, minimize, and mitigate the incidental takes of ESA-listed sea turtles in what it refers to as the “inshore fisheries.”

Inshore fisheries occur in Hawaii state waters (shoreline to the extent of state jurisdiction) which are under the State’s management authority (except for federal pelagic and bottomfish fisheries managed by the Western Pacific Regional Fishery Management Council). This includes both recreational fishing and commercial fishing. Many different kinds of fishing methods exist and, in aggregate, fishing occurs throughout the year and along all accessible coastlines. Hawaiian fishermen utilize gear in four broad categories: hook-and-line, net, trap and spear. There is a diverse array of gear and gear configurations within these categories.

The DAR conservation plan includes a monitoring program to accurately estimate the annual take of sea turtles by inshore fisheries and to assess the effect of mitigation measures on addressing goals and objectives. The plan would also work to reduce the lethal take of sea turtles (all species combined) by 25 percent from 2002 levels and reduce the total take by 10 percent. Incidental mortalities of ESA-listed sea turtles associated with the Hawaii inshore marine fisheries are requested at levels specified in the permit application. The plan would protect critical inshore foraging and resting habitat from the impacts of the permitted activity.

This notice is provided pursuant to section 10(c) of the ESA and the National Environmental Policy Act (NEPA) regulations (40 CFR 1506.6). NMFS will evaluate the application, associated documents, and public comments to determine whether the application meets the requirements of the NEPA regulations and section 10(a) of the ESA. If it is determined that the requirements are met, a permit will be issued for incidental takes of ESA-listed sea turtles under the jurisdiction of NMFS. The final NEPA and permit determinations will not be completed until after the end of the 30-day comment period and will fully consider all public comments received during the comment period. NMFS will publish a record of its final action in the Federal Register.

Dated: April 1, 2002.
Phil Williams,
Chief, Endangered Species Division, Office of Protected Resources, National Marine Fisheries Service.

[FR Doc. 02-8190 Filed 4-4-02; 8:45 am]

BILLING CODE 3510-22-S